DEPARTMENT OF AGRICULTURE

Rural Utilities Service

7 CFR Part 1738

RIN 0572-AC34

Rural Broadband Access Loans and Loan Guarantees; Correction

AGENCY: Rural Utilities Service, Agriculture.

ACTION: Final rule; correction.

SUMMARY: The Rural Utilities Service (RUS), an agency of the United States Department of Agriculture (USDA), is correcting a final rule that appeared in the Federal Register of June 9, 2016 (81 FR 37121). The document confirmed the interim rule which amends the Agency's regulation for the Rural Broadband Access Loan and Loan Guarantee Program (Broadband Loan Program).

DATES: Effective September 14, 2016.

FOR FURTHER INFORMATION CONTACT: Thomas P. Dickson, Acting Director, Program Development and Regulatory Analysis, Rural Utilities Service, United States Department of Agriculture, 1400 Independence Avenue SW., Washington, DC 20250-9011, Telephone: 202-690-4492, email: Thomas.Dickson@wdc.usda.gov.

SUPPLEMENTARY INFORMATION: RUS published a final rule in the Federal Register on June 9, 2016, 81 FR 37121, confirming the interim rule which amends its regulation for the Rural Broadband Access Loan and Loan Guarantee Program (Broadband Loan Program). Inadvertently, an incorrect regulatory identifier number (RIN) was referenced in the headings section of the document. Under the Congressional Review Act (CRA), this rule was not designated as a “major” rule.

In FR Doc. 2016-13302, on page 37121 in the Federal Register of Thursday, June 9, 2016, appearing in the first column the following correction is made to the Headings section, RIN Number: Remove RIN 0572-AC06 and replace it with RIN 0572-AC34.

Dated: September 7, 2016.
Joshua Cohen,
Deputy Administrator, Rural Utilities Service.

[FR Doc. 2016-21958 Filed 9-13-16; 8:45 am]

BILLING CODE P